NATIONAL FOUNDATION ON THE ARTS AND THE HUMANITIES

Meeting of the National Museum and Library Services Board

AGENCY: Institute of Museum and Library Services.

ACTION: Notice of meeting.

SUMMARY: This notice sets forth the agenda of a forthcoming meeting of the National Museum and Library Services Board. This notice also describes the function of the Board. Notice of this meeting is required under the Sunshine in Government Act.

TIME/DATE: 8 a.m. to 12:30 p.m. on Thursday May 6, 2004.

Agenda: Second Meeting of the National Museum and Library Services Board.

8 a.m.-9 a.m. Executive Session to Consider Award Nominations (Closed to the Public).

9:30 a.m.-12 p.m. Second Meeting of the National Museum and Library Services Board (Open to the Public).

I. Welcome

Tom Jaques, Louisiana State Librarian

Chuck Patch, Director of Systems, Historic New Orleans

II. Approval of Minutes

III. Staff Reports

IV. Board Reports

V. Issues Discussion: Building Institutional Capacity.

The discussion will focus on ways in which IMLS grants in Louisiana have supported important activities, including conservation and digitization, which facilitate the presentation and interpretation of artifacts, documents, and collections. Each speaker will use the example of a specific project to discuss broader issues of collections stewardship, the role of new technologies in creating a nation of learners, and the value of partnership and collaboration.

Tamra Carboni, Director of Curatorial Services, Louisiana State Museum

Brenda Square, Head of Archives & Library, Amistad Research Center

Faye Phillips, Associate Dean of Libraries for Special Collections, Louisiana State University

VI. Other business

VII. Adjourn

ADDRESSES: Sheraton New Orleans Hotel, 500 Canal Street, New Orleans, LA, (504) 595-6211.

FOR FURTHER INFORMATION CONTACT: Elizabeth Lyons, Special Assistant to the Director, Institute of Museum and Library Services, 1100 Pennsylvania Avenue, NW., Room 510, Washington, DC 20506—(202) 606-4649.

SUPPLEMENTARY INFORMATION: The National Museum and Library Services Board is established under the Museum and Library Services Act, 20 U.S.C. 9101 et seq. The Board advises the Director of the Institute on general policies with respect to the duties, powers, and authorities related to Museum and Library Services.

The meeting from 8 a.m. to 9 a.m. on Thursday, May 6, 2004 will be closed pursuant to subsections (c)(4) and (c)(6) of section 552b of Title 5, United States Code because the Board will consider information that may disclose: Trade secrets and commercial or financial information obtained from a person and privileged or confidential; and information of a personal nature the disclosure of which would constitute a clearly unwarranted invasion of personal privacy. The meeting from 9:30 a.m. until 12 p.m. is open to the public. If you need special accommodations due to a disability, please contact: Institute of Museum and Library Services, 1100 Pennsylvania Avenue, NW., Washington, DC 20506—(202) 606-8536—TDD (202) 606-8636 at least seven (7) days prior to the meeting date.

Dated: April 22, 2004.
Teresa LaHaie,
Administrative Officer, National Foundation on the Arts and the Humanities, Institute of Museum and Library Services.

[FR Doc. 04-9573 Filed 4-22-04; 4:53 pm]

BILLING CODE 7036-01-M